DEPARTMENT OF TRANSPORTATION

Federal Transit Administration

49 CFR Part 611

RIN 2132-AA63

Major Capital Investment Projects; Partial Stay

AGENCY: Federal Transit Administration (FTA), DOT.

ACTION: Final rule; partial stay of effectiveness.

SUMMARY: In accordance with the memorandum of January 20, 2001, from the Assistant to the President and Chief of Staff, entitled “Regulatory Review Plan,” published in the Federal Register on January 24, 2001, this action temporarily stays 49 CFR part 611, Major Capital Investment Projects, which was published in the Federal Register on December 7, 2000, at 65 FR 76864, with an effective date of February 5, 2001. That rule describes the procedures that FTA will use in the New Starts project evaluation and rating process. This temporary stay will allow the Department an opportunity for further consideration of this rule.

DATES: Effective February 5, 2001, 49 CFR part 611 is stayed until April 6, 2001, except for paragraphs (a)(1)(i)-(ii) and (d) of Appendix A to Part 611, which will become effective September 1, 2001.

FOR FURTHER INFORMATION CONTACT: For program issues, John Day, Office of Policy Development, FTA, (202) 366-4060. For legal issues, Scott A. Biehl, Assistant Chief Counsel, FTA, (202) 366-4063.

SUPPLEMENTARY INFORMATION: To the extent that 5 U.S.C. section 553 applies to this action, it is exempt from notice and comment because it constitutes a rule of procedure under 5 U.S.C. section 553(b)(A). Alternatively, FTA's implementation of this action without opportunity for public comment, effective February 5, 2001, is based on the good cause exceptions in 5 U.S.C. section 553(b)(B) and 553(d)(3). Seeking public comment is impracticable, unnecessary and contrary to the public interest. The temporary 60-day stay of the rule is necessary to give Department officials the opportunity for further review and consideration of new regulations, consistent with the Assistant to the President's memorandum of January 20, 2001. Given the imminence of the effective date, seeking prior public comment on this temporary stay would have been impractical, as well as contrary to the public interest in the orderly promulgation and implementation of regulations. The imminence of the effective date is also good cause for making this action effective February 5, 2001.

Issued on: January 31, 2001.
Hiram J. Walker,
Acting Deputy Administrator.

[FR Doc. 01-3207 Filed 2-6-01; 5:05 pm]

BILLING CODE 4910-57-P